FEDERAL COMMUNICATIONS COMMISSION

[OMB 3060-XXXX; FR ID 60758]

Information Collection Being Reviewed by the Federal Communications Commission

AGENCY: Federal Communications Commission.

ACTION: Notice and request for comments.

SUMMARY: As part of its continuing effort to reduce paperwork burdens, and as required by the Paperwork Reduction Act (PRA) of 1995, the Federal Communications Commission (FCC or the Commission) invites the general public and other Federal agencies to take this opportunity to comment on the following information collection. Comments are requested concerning: Whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees. The FCC may not conduct or sponsor a collection of information unless it displays a currently valid control number. No person shall be subject to any penalty for failing to comply with a collection of information subject to the PRA that does not display a valid Office of Management and Budget (OMB) control number.

DATES: Written PRA comments should be submitted on or before February 4, 2022. If you anticipate that you will be submitting comments, but find it difficult to do so within the period of time allowed by this notice, you should advise the contact listed below as soon as possible.

ADDRESSES: Direct all PRA comments to Nicole Ongele, FCC, via email PRA@fcc.gov and to nicole.ongele@fcc.gov.

FOR FURTHER INFORMATION CONTACT: For additional information about the information collection, contact Nicole Ongele, (202) 418-2991.

SUPPLEMENTARY INFORMATION: OMB Control Number: 3060-XXXX.

Title: Preparation of Annual Reports to Congress for the Collection & Use of Fees for 988 Services by States & Other Jurisdictions Under the National Suicide Hotline Designation Act of 2020.

Form Number: N/A.

Type of Review: New information collection.

Respondents: State, Local, or Tribal governments.

Number of Respondents and Responses: 630 respondents; 630 responses.

Estimated Time per Response: 55 hours.

Frequency of Response: Annual reporting requirement.

Obligation to Respond: Voluntary. Statutory authority for this information collection is contained in National Suicide Hotline Designation Act of 2020, Public Law 116-172, 134 Stat. 832 (2020) (988 Act).

Total Annual Burden: 34,650 hours.

Total Annual Cost: No Cost.

Privacy Act Impact Assessment: No impact(s).

Nature and Extent of Confidentiality: The Commission will consider the potential confidentiality of any information submitted, particularly where public release of such information could raise security concerns (e.g., granular location information). Respondents may request materials or information submitted to the Commission or to the Administrator be withheld from public inspection under 47 CFR 0.459 of the Commission's rules.

Needs and Uses: This information collection enables the Federal Communications Commission (Commission) to fulfill its continuing obligations under the National Suicide Hotline Designation Act of 2020, Pub. L. 116-172, 134 stat. 832 (2020) (988 Act), to submit an annual “Fee Accountability Report” to the Committees on Commerce, Science, and Transportation and Appropriations of the Senate, and the Committees on Energy and Commerce and Appropriations of the House of Representatives, detailing “the status in each State, political subdivision of a State, Indian Tribe, or village or regional corporation serving” an Alaska Native Claims Settlement Act region, of the collection and distribution of fees or charges for “the support or implementation of 9-8-8 services,” including “findings on the amount of revenues obligated or expended by each [state, political entity, and subdivision] for any purpose other than the purpose for which any such fees or charges are specified.” (988 Act, 134 stat. at 833-34.)

The Commission will collect information for the preparation of the annual Fee Accountability Report through a survey, to be distributed via electronic mail, that appropriate officials of States and political subdivisions thereof, Indian Tribes, and village or regional corporations serving a region established pursuant to the Alaska Native Claims Settlement Act, as amended (43 U.S.C. 1601 et seq.) can use to submit data pertaining to the collection and distribution of revenues from fees and charges for the support or implementation of 988 services, including the use of such collected fees and charges for any purpose other than for the support or implementation of 988 services. In addition, consistent with the definition of “State” set forth in 47 U.S.C. 153(40) of the Communications Act, the Commission will collect this information from states as well as the District of Columbia and the inhabited U.S. Territories and possessions.

Federal Communications Commission.
Marlene Dortch,
Secretary, Office of the Secretary.

[FR Doc. 2021-26346 Filed 12-3-21; 8:45 am]

BILLING CODE 6712-01-P